DEPARTMENT OF EDUCATION

[CFDA No. 84.215L]

Office of Vocational and Adult Education—Smaller Learning Communities Program

ACTION: Notice inviting applications for new awards for fiscal year (FY) 2002.

Purpose of Program: On January 8, 2002, President George W. Bush signed into law the No Child Left Behind Act of 2001, which reauthorized the Smaller Learning Communities Program. The purpose of the Smaller Learning Communities Program is to support academic achievement through awarding competitive grants to LEAs applying on behalf of large public high schools for the planning and implementation or expansion of small, safe, and successful learning environments in large public high schools. These grants are authorized by Title V, part D, subpart 4 of the Elementary and Secondary Education Act of 1965 (ESEA) (20 U.S.C. 7249), as amended by Public Law 107-110, the No Child Left Behind Act of 2001.

Eligible Applicants: Local educational agencies (LEAs), including schools funded by the Bureau of Indian Affairs (BIA schools), applying on behalf of large high schools are eligible. For purposes of this program, a large high school is defined as a school that includes grades 11 and 12 and enrolls at least 1,000 students in grades 9 and above.

Applications Available: March 20, 2003.

Deadline for Transmittal of Applications: May 19, 2003.

Deadline for Intergovernmental Review: July 18, 2003.

Estimated Available Funds: $135,000,000.

Types and Ranges of Awards: The Secretary will award both planning and implementation grants under this competition. In an effort to encourage systemic, district-level reform efforts, the Secretary is permitting an individual LEA to submit a maximum of one planning grant application and one implementation grant application under this competition, specifying in each application which high schools the LEA intends to fund. An LEA may not apply for both a planning and implementation grant on behalf of the same high school. A high school may only be included in either the LEA's planning grant application or its implementation grant application. Applicants pursuing planning grant funds must not yet have developed a viable plan for creating smaller learning communities in the schools that would be served through the grant. To apply for implementation grant funds, applicants must be prepared either to implement a new smaller learning community program within each targeted high school, or to expand an existing smaller learning community program.

For a one-year planning grant, LEAs may receive, on behalf of a single school, $25,000 to $50,000 per project. LEAs applying on behalf of a group of eligible schools may receive up to $250,000 per planning grant. As this program is designed for redesign and improvement efforts at the individual school level, districts must stay within the minimum and maximum school allocations when determining their award request. In addition, in order to ensure sufficient planning funds at the local level, LEAs may not request funds for more than 10 schools under a single application.

The chart below provides eligible ranges for awards under a planning grant:

Number of schools in LEA application | Award ranges
One school | $25,000-50,000
Two schools | $50,000-100,000
Three schools | $75,000-150,000
Four schools | $100,000-200,000
Five schools | $125,000-250,000
Six schools | $150,000-250,000
Seven schools | $175,000-250,000
Eight schools | $200,000-250,000
Nine schools | $225,000-250,000
Ten schools | $250,000

In previous SLC competitions, applicants have routinely requested more money than the above award ranges dictate. As a result, plans submitted to the Department have included any number of activities that could only be made possible if an applicant received a funding amount much higher than intended in the award range. Based on this experience, the Department will fund only those applications that correctly request funds within the award ranges specified in this notice for both planning and implementation grants. Applicants requesting funding amounts higher than the award ranges dictated by the number of schools to be served will be declared ineligible and will not receive funding. Further, schools that received support through planning grants in the FY 2000 or FY 2001 competition are not eligible to receive support through additional planning grants under this competition.

For a three-year implementation grant, LEAs may receive, on behalf of a single school, $250,000 to $500,000. LEAs applying on behalf of a group of eligible schools may request up to $2,500,000 per implementation grant. As with planning grants, districts must stay within the minimum and maximum school allocations when determining their group award request, or the Department will consider the application ineligible. In order to ensure sufficient implementation funds at the local level, LEAs may not request funds for more than 10 schools under a single application.

The chart below provides eligible ranges for awards under the implementation grant:

Number of schools in LEA application | Award ranges
One school | $250,000-500,000
Two schools | 500,000-1,000,000
Three Schools | 750,000-1,500,000
Four schools | 1,000,000-2,000,000
Five schools | 1,250,000-2,500,000
Six schools | 1,500,000-2,500,000
Seven schools | 1,750,000-2,500,000
Eight schools | 2,000,000-2,500,000
Nine schools | 2,250,000-2,500,000
Ten schools | 2,500,000

As previously noted, LEAs may not apply on behalf of a single high school in more than one application. Schools that benefited from FY 2000 or FY 2001 implementation awards are not eligible to receive additional support under this competition.

Applicants should note that the requirements listed in this notice are material requirements. Please note that a failure to comply with any applicable program requirement (for example, failure to reasonably implement the proposed grant-funded project) may subject a grantee to administrative action, including the imposition of special conditions or termination of the grant.

Note: The size of awards will be based on a number of factors. These factors include the scope, quality, and comprehensiveness of the proposed program, and the recommended range of awards indicated in the application.

Estimated Number of Awards: The Secretary anticipates making approximately 100 new planning grant awards and approximately 100 new implementation awards under this competition.

Note: The Department of Education is not bound by any estimates in this notice.

Project Period: Planning grants will fund activities up to 12 months. Implementation grants will fund activities up to 36 months. Understanding the unique complexities of implementing a program that affects a school's organization, physical design, curriculum, instruction, and preparation of teachers, the Secretary anticipates awarding the entire grant amount for implementation projects at the time of the initial award. This will provide the applicant with the capacity to effectively carry out the comprehensive long-term activities involved in these projects.

Applicable Regulations: (a) The Education Department General Administrative Regulations (EDGAR) in 34 CFR parts 75, 77, 79, 80, 81, 82, 85, 86, 97, 98, and 99; and (b) the regulations in the notice of final priorities, application requirements, and selection criteria for FY 2002 as published elsewhere in this issue of the Federal Register.

Priorities

This competition gives absolute and competitive priorities to applicants that meet the conditions outlined in the Notice of the Final Priorities for this program, which is published elsewhere in this issue of the Federal Register.

FOR FURTHER INFORMATION CONTACT: For information on the program and to download an application, you may access the SLC program Web site at http://www.ed.gov/offices/OVAE/HS/SLCP/. If you need further assistance and need to speak with someone in the SLC program, you may contact Karen Stratman Clark, by phone at (202) 205-3779, or by mail 330 C Street, SW., Room 5523, Washington, DC 20202. Requests for applications may also be sent by fax to (202) 401-4079.

Individuals who use a telecommunications device for the deaf (TDD) may call the Federal Information Relay Service (FIRS) at 1-800-877-8339. Individuals with disabilities may obtain this notice in an alternative format (e.g., Braille, large print, audiotape, or computer diskette) on request to one of the contact persons listed in the preceding paragraph.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have any questions about using PDF, call the U.S. Government Printing Office (GPO); toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 7249.

Dated: March 14, 2003.
Richard La Pointe,
Acting Assistant Secretary, Vocational and Adult Education.

[FR Doc. 03-6695 Filed 3-19-03; 8:45 am]

BILLING CODE 4000-01-P